Title 3—

The President

Proclamation 10795 of August 30, 2024

National Childhood Cancer Awareness Month, 2024

By the President of the United States of America

A Proclamation

During National Childhood Cancer Awareness Month, we honor the extraordinary courage of the hundreds of thousands of children who are facing cancer, who survived cancer, or who were taken too soon by this deadly disease. We offer strength and support to their families and friends, who devotedly care for their loved ones through every step of their cancer journeys. And we recommit to finally ending cancer as we know it so that every child has the opportunity to realize their full potential and lead healthy, long, fulfilling lives.

Cancer is the leading cause of death by disease for children in America. As every family who has dealt with cancer knows—of all the things cancer steals from us, time is the cruelest. So many young, bright children who should be exploring our world are forced to spend their precious time confined to hospital rooms. Meanwhile, families and caregivers are left to navigate mountains of medical information, decipher complex treatment options, and find the means to pay for exorbitant medical bills as the emotional, physical, and financial toll mounts.

For my family, and for millions of Americans, the fight against cancer is personal. When I lost my son Beau after his courageous battle with cancer, I buried a piece of my soul. It is a feeling too many families know all too well. That is why I came into office with a mission to accelerate research into curing cancer and to ensure that cancer patients and their families are treated with dignity throughout the process. Toward that aim, the First Lady and I reignited the Biden Cancer Moonshot—mobilizing the entire country to cut the cancer death rate in half within 25 years and to strengthen support for patients and families. Additionally, I formed the first-ever Cancer Cabinet to break down silos and deliver all of the cancer prevention, early detection, treatments, care, and support needed to save more than 4 million Americans' lives by 2047.

Through these and other initiatives, we are making tremendous progress. We secured $4 billion in bipartisan funding from the Congress to realize my Administration's vision for a new biomedical research agency, the Advanced Research Projects Agency for Health, to drive breakthroughs in prevention, diagnosis, and treatment for cancer and other diseases. The National Cancer Institute developed a National Cancer Plan to fast-track effective cancer treatments, including for children, and this year alone we have secured $7.3 billion for work across the National Cancer Institute. We are creating a national network to connect eligible children, adolescents, and young adults to opportunities to participate in clinical trials by launching the Childhood Cancer-Data Integration for Research, Education, Care, and Clinical Trials. The Institute's Childhood Cancer Data Initiative is also providing free molecular testing of tumors. Moreover, we are working to implement the RACE for Children Act to identify and approve precision pediatric drugs quickly. And I signed the Childhood Cancer STAR Reauthorization Act to increase funding for childhood cancer research.

My Administration is also working hard to ensure that treatment is more accessible and affordable. I am proud to strengthen Medicaid and the Affordable Care Act (ACA) by keeping children covered under Medicaid for a full year and expanding ACA coverage to millions of families—saving them approximately $800 per year on health insurance premiums. And we are receiving commitments from companies, nonprofits, and patient groups to increase screening, prevent exposure to toxic substances, deliver new research innovations, and improve access for more Americans to effective care.

At the same time, my Administration is making sure that no family is left behind in the cancer treatment process. Everyone needs a navigator who can help guide them through each step of their cancer journey—from sorting through health care costs to figuring out transportation to the hospital. We delivered new reimbursement codes so that, for the first time ever, families facing cancer can get patient navigation services paid for through Medicare, Medicaid, and private insurance. Cancer navigation services are personalized assistance to patients, caregivers, and families to help guide them through the many decisions and challenges that come with a cancer diagnosis, which have been shown to reduce cancer disparities, improve health outcomes, and make an enormous difference in people's lives. To date, 40 cancer centers and community oncology practices nationwide along with 7 leading insurance companies who serve more than 150 million Americans have committed to providing and paying for navigation services for families facing cancer.

Across the Nation, millions of families hold on to hope that their loved ones will get the cancer treatment they need to be cured for good. During this National Childhood Cancer Awareness Month, let us give strength to all the pediatric patients, their families, and their caretakers. Let us pay tribute to all the brave kids who inspire us to keep fighting and never give up. And let us recommit to doing all we can together to create a brighter, cancer-free future for America's youth.

NOW, THEREFORE, I, JOSEPH R. BIDEN JR., President of the United States of America, by virtue of the authority vested in me by the Constitution and the laws of the United States, do hereby proclaim September 2024 as National Childhood Cancer Awareness Month. I encourage citizens, government agencies, private businesses, nonprofit organizations, the media, and other interested groups to increase awareness of what Americans can do to support the fight against childhood cancer. I encourage anyone experiencing uncertainty around risk factors or treatment options or looking for other opportunities for support to connect with a trained specialist at 1-800-4-CANCER or visit cancer.gov.

IN WITNESS WHEREOF, I have hereunto set my hand this thirtieth day of August, in the year of our Lord two thousand twenty-four, and of the Independence of the United States of America the two hundred and forty-ninth.

[FR Doc. 2024-20121

Filed 9-4-24; 8:45 am]

Billing code 3395-F4-P